DEPARTMENT OF COMMERCE

International Trade Administration

A-570-863

Honey from the People's Republic of China: Notice of Partial Rescission of Antidumping Duty Administrative Review

AGENCY: Import Administration, International Trade Administration, Department of Commerce

SUMMARY: On January 31, 2005, the Department of Commerce (“the Department”) published in the Federal Register (70 FR 4818) a notice announcing the initiation of the administrative review of the antidumping duty order on honey from the People's Republic of China (“PRC”). The period of review (“POR”) is December 1, 2003, to November 30, 2004. This review is now being rescinded for Kunshan Foreign Trading Company, High Hope International Group Jiangsu Foodstuffs Import & Export Corp., Henan Native Produce Import & Export Corporation, Shanghai Xiuwei International Trading Co., Ltd., Shanghai Shinomiel International Trade Corporation, Foodworld International Club, Ltd., and Inner Mongolia Youth Trade Development Co., Ltd., because the only requesting party withdrew its request in a timely manner.

EFFECTIVE DATE: March 29, 2005.

FOR FURTHER INFORMATION CONTACT: Catherine Bertrand or Anya Naschak, AD/CVD Operations, Office 9, Import Administration, U.S. Department of Commerce, 14th Street and Constitution Avenue, NW., Room 4003, Washington, DC 20230; telephone (202) 482-3207 or (202) 482-6375, respectively.

SUPPLEMENTARY INFORMATION:

Background

On December 10, 2001, the Department published in the Federal Register an antidumping duty order covering honey from the PRC. See Notice of Amended Final Determination of Sales at Less Than Fair Value and Antidumping Duty Order; Honey from the People's Republic of China, 66 FR 63670 (December 10, 2001). On December 1, 2004, the Department published a Notice of Opportunity to Request an Administrative Review of Antidumping or Countervailing Duty Order, Finding, or Suspended Investigation, 69 FR 69889. On December 30, 2004, the American Honey Producers Association and the Sioux Honey Association (collectively, petitioners), requested, in accordance with section 351.213(b) of the Department's regulations, an administrative review of the antidumping duty order on honey from the PRC for nineteen companies covering the period December 1, 2003, through November 30, 2004. On December 30, 2004, and January 3, 2005, nine Chinese companies requested an administrative review of their respective companies. The Department notes that petitioners' request covered these nine companies as well.

On January 31, 2005, the Department initiated an administrative review of nineteen Chinese companies. See Initiation of Antidumping and Countervailing Duty Administrative Reviews and Request for Revocation in Part, 70 FR 4818 (January 31, 2005). On February 22, 2005, petitioners filed a letter withdrawing their request for review of the following seven companies: Kunshan Foreign Trading Company, High Hope International Group Jiangsu Foodstuffs Import & Export Corp., Henan Native Produce Import & Export Corporation, Shanghai Xiuwei International Trading Co., Ltd., Shanghai Shinomiel International Trade Corporation, Foodworld International Club, Ltd., and Inner Mongolia Youth Trade Development Co., Ltd. Only petitioners had requested a review of these companies.

Rescission of Review

The applicable regulation, 19 CFR 351.213(d)(1), states that if a party that requested an administrative review withdraws the request within 90 days of the publication of the notice of initiation of the requested review, the Secretary will rescind the review. Petitioners withdrew their review request with respect to seven exporters of subject merchandise within the 90-day deadline, in accordance with 19 CFR 351.213(d)(1). Since petitioners were the only party to request an administrative review of these companies, we are partially rescinding this review of the antidumping duty order on honey from the PRC covering the period December 1, 2003, through November 30, 2004, with respect to Kunshan Foreign Trading Company, High Hope International Group Jiangsu Foodstuffs Import & Export Corp., Henan Native Produce Import & Export Corporation, Shanghai Xiuwei International Trading Co., Ltd., Shanghai Shinomiel International Trade Corporation, Foodworld International Club, Ltd., and Inner Mongolia Youth Trade Development Co., Ltd.

Assessment

The Department will instruct U.S. Customs and Border Protection (“CBP”) to assess antidumping duties on all appropriate entries. For those companies for which this review is rescinded, antidumping duties shall be assessed at rates equal to the cash deposit of estimated antidumping duties required at the time of entry, or withdrawal from warehouse, for consumption, in accordance with 19 CFR 351.212(c)(1)(i). The Department will issue appropriate assessment instructions directly to CBP within 15 days of publication of this notice.

Notification of Interested Parties

This notice serves as a final reminder to importers of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

This notice also serves as a reminder to parties subject to administrative protective orders (“APOs”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

This notice is issued and published in accordance with sections 751 and 777(i) of the Act and 19 CFR 351.213(d)(4).

Dated: March 22, 2005.
Barbara E. Tillman,
Acting Deputy Assistant Secretary for Import Administration.

[FR Doc. E5-1387 Filed 3-28-05; 8:45 am]

BILLING CODE 3510-DS-S